DEPARTMENT OF ENERGY

Federal Energy Regulatory Commission

Combined Notice of Filings # 1

April 24, 2007.

Take notice that the Commission received the following electric corporate filings:

Docket Numbers: EC07-80-000; EL07-55-000.

Applicants: Nevada Solar One, LLC.

Description: Nevada Solar, LLC's application for authorization for transaction under section 203 of the FPA and request for finding regarding Public Utility Status as defined in section 201(e) of the FPA.

Filed Date: 4/12/2007.

Accession Number: 20070416-0328.

Comment Date: 5 p.m. Eastern Time on Monday, May 14, 2007.

Docket Numbers: EC07-81-000.

Applicants: Storm Lake Power Partners II LLC; Lake Benton Power Partners LLC; SFG-J Inc; SFG-M Inc; RP Wind LBI LLC; RP WIND SLII LLC; AES Mid-West Holdings, L.L.C.

Description: Storm Lake Power Partners II, LLC et al submit an application for order under section 203 of the fpa and request for waivers and expedited action.

Filed Date: 4/17/2007.

Accession Number: 20070419-0151.

Comment Date: 5 p.m. Eastern Time on Tuesday, May 8, 2007.

Docket Numbers: EC07-82-000.

Applicants: Avista Energy, Inc.; Coral Power, L.L.C.

Description: Avista Energy, Inc. and Coral Power, L.L.C. submit their application for authorization for disposition of jurisdictional facilities and request for expedited action.

Filed Date: 4/18/2007.

Accession Number: 20070419-0305.

Comment Date: 5 p.m. Eastern Time on Thursday, May 18, 2007.

Take notice that the Commission received the following electric rate filings:

Docket Numbers: ER05-522-003; ER06-1382-003.

Applicants: Bluegrass Generation Company, L.L.C.

Description: Bluegrass Generation Co, LLC submits a compliance filing of its Reactive Supply and Voltage Control from Generation Sources Service Rate Schedule 2 etc pursuant to FERC's 3/16/07 Order.

Filed Date: 4/16/2007.

Accession Number: 20070419-0246.

Comment Date: 5 p.m. Eastern Time on Monday, May 7, 2007.

Docket Numbers: ER05-764-004.

Applicants: Montana Alberta Tie Ltd.

Description: Montana Alberta Tie Ltd submits an amendment to its 9/15/06 compliance filing in order to conform the OATT more fully to the Commission's Pro Forma OATT as adopted in Order 888.

Filed Date: 4/13/2007.

Accession Number: 20070418-0113.

Comment Date: 5 p.m. Eastern Time on Friday, May 4, 2007.

Docket Numbers: ER06-18-008.

Applicants: Midwest Independent Transmission System Operator, Inc.

Description: Midwest Independent Transmission System Operator, Inc. submits proposed revisions to its OAT&EMT, Substitute First Revised Sheet 1839 et al to FERC Electric Tariff, Third Revised Vol 1.

Filed Date: 4/17/2007.

Accession Number: 20070419-0111.

Comment Date: 5 p.m. Eastern Time on Tuesday, May 8, 2007.

Docket Numbers: ER07-518-001.

Applicants: Louisville Gas & Electric Co; Kentucky Utilities Company.

Description: Louisville Gas and Electric Co. and Kentucky Utilities Company submits a compliance refund report of in Response to the Commission's March 12, 2007 Letter Order.

Filed Date: 4/19/2007.

Accession Number: 20070419-5040.

Comment Date: 5 p.m. Eastern Time on Thursday, May 10, 2007.

Docket Numbers: ER07-757-000.

Applicants: Central Vermont Public Service Corporation.

Description: Central Vermont Public Service Corp submits First Revised Sheet 2453 et al to FERC Electric Tariff 3 for its Schedule 21-CV pursuant to Order 668.

Filed Date: 4/16/2007.

Accession Number: 20070419-0110.

Comment Date: 5 p.m. Eastern Time on Monday, May 7, 2007.

Docket Numbers: ER07-758-000.

Applicants: Inland Empire Energy Center, L.L.C.

Description: Inland Empire Energy Center, LLC submits an application for its Market based Rate Authority, FERC Electric Tariff Original Volume 1, under section 205 of the FPA and request for waivers and pre-approvals.

Filed Date: 4/16/2007.

Accession Number: 20070419-0245.

Comment Date: 5 p.m. Eastern Time on Monday, May 7, 2007.

Docket Numbers: ER07-759-000.

Applicants: Northeast Utilities Service Company.

Description: Northeast Utilities Service Co on behalf of The Connecticut Light and Power Co et al submits a series of standardized agreements and tariff amendments that are designed to more precisely define parties responsibilities etc.

Filed Date: 4/16/2007.

Accession Number: 20070419-0109.

Comment Date: 5 p.m. Eastern Time on Monday, May 7, 2007.

Docket Numbers: ER07-760-000.

Applicants: ISO New England Inc.; New England Power Pool Participants Committee.

Description: ISO New England, Inc and New England Power Pool Participants Committee submits proposed amendments to the Financial Assurance Policies that are Exhibits IA and IB to section I of the ISO Tariff.

Filed Date: 4/17/2007.

Accession Number: 20070419-0304.

Comment Date: 5 p.m. Eastern Time on Tuesday, May 8, 2007.

Docket Numbers: ER07-761-000.

Applicants: Fulcrum Energy Limited.

Description: Fulcrum Energy Limited submits their petition for acceptance of FERC Electric Tariff, Original Volume 1, waivers and blanket authority.

Filed Date: 4/20/2007.

Accession Number: 20070419-0301.

Comment Date: 5 p.m. Eastern Time on Friday, May 11, 2007.

Docket Numbers: ER07-762-000.

Applicants: Illinois Power Company.

Description: Illinois Power Co dba AmerenIP submits a notice of termination and a service agreement sheet canceling the First Revised Interconnection and Operating Agreement with Franklin County Power of Illinois, LLC.

Filed Date: 4/17/2007.

Accession Number: 20070419-0303.

Comment Date: 5 p.m. Eastern Time on Tuesday, May 8, 2007.

Docket Numbers: ER07-771-000.

Applicants: Bluegrass Generation Company, LLC.

Description: Louisville Gas and Electric Co and Kentucky Utilities Co et al submits its revised Schedule 2, Reactive Power Supply & Voltage Control under its Open Access Transmission Tariff.

Filed Date: 4/16/2007.

Accession Number: 20070419-0244.

Comment Date: 5 p.m. Eastern Time on Monday, May 7, 2007.

Take notice that the Commission received the following electric securities filings:

Docket Numbers: ES07-31-000.

Applicants: Trans Bay Cable LLC.

Description: Trans Bay Cable LLC submits its application for Authority To Issue Securities Under Section 204 Of The FPA.

Filed Date: 4/19/2007.

Accession Number: 20070419-5019.

Comment Date: 5 p.m. Eastern Time on Thursday, May 10, 2007.

Take notice that the Commission received the following foreign utility company status filings:

Docket Numbers: FC07-32-000.

Applicants: EDP Gás—S.G.P.S., S.A.

Description: Notification of Self-Certification of Foreign Utility Status Company EDP Gas.

Filed Date: 4/19/2007.

Accession Number: 20070418-5120.

Comment Date: 5 p.m. Eastern Time on Thursday, May 10, 2007.

Docket Numbers: FC07-33-000.

Applicants: EDP Imobiliaria e Participacoes, S.A.

Description: Notification of Self-Certification of Foreign Utility Company Status of EDP Imobiliaria e Participacoes, S.A.

Filed Date: 4/19/2007.

Accession Number: 20070418-5121.

Comment Date: 5 p.m. Eastern Time on Thursday, May 10, 2007.

Docket Numbers: FC07-34-000.

Applicants: Nuevas Energias de Occidente.

Description: Notification of Self-Certification of Foreign Utility Company Status of Nuevas Energias de Occidente.

Filed Date: 4/19/2007.

Accession Number: 20070418-5124.

Comment Date: 5 p.m. Eastern Time on Thursday, May 10, 2007.

Docket Numbers: FC07-35-000.

Applicants: Balwerk—Consultadoria Economica e Part.

Description: Notification of Self-Certification of Foreign Utility Company Status of Balwerk—Consultadoria Economica e Part.

Filed Date: 4/19/2007.

Accession Number: 20070418-5122.

Comment Date: 5 p.m. Eastern Time on Thursday, May 10, 2007.

Docket Numbers: FC07-36-000.

Applicants: EDP Comercial—Comercializacao de Energ.

Description: Notification of Self-Certification of EDP Comercial—Comercializacao de Energia, S.A.

Filed Date: 4/19/2007.

Accession Number: 20070418-5125.

Comment Date: 5 p.m. Eastern Time on Thursday, May 10, 2007.

Docket Numbers: FC07-37-000.

Applicants: EDP Distribuicao de Energia, S.A.

Description: Notification of Self-Certification of Foreign Utility Company Status of EDP Distribuicao de Energia, S.A.

Filed Date: 4/19/2007.

Accession Number: 20070418-5126.

Comment Date: 5 p.m. Eastern Time on Thursday, May 10, 2007.

Docket Numbers: FC07-38-000.

Applicants: EDP Finance Company Ltd.

Description: Notification of Self-Certification Foreign Utility Company Status of EDP Finance Company Ltd.

Filed Date: 4/19/2007.

Accession Number: 20070418-5127.

Comment Date: 5 p.m. Eastern Time on Thursday, May 10, 2007.

Docket Numbers: FC07-39-000.

Applicants: Enernova—Novas Energias S.A.

Description: Notification of Self-Certification of Foreign Utility Company Status of Enernova—Novas Energias S.A.

Filed Date: 4/19/2007.

Accession Number: 20070418-5128.

Comment Date: 5 p.m. Eastern Time on Thursday, May 10, 2007.

Docket Numbers: FC07-40-000.

Applicants: Electrica de la Ribera del Ebro, S.A.

Description: Notification of Self-Certification of Foreign Utility Company Status of Electrica de la Ribera del Ebro, S.A.

Filed Date: 4/19/2007.

Accession Number: 20070418-5130.

Comment Date: 5 p.m. Eastern Time on Thursday, May 10, 2007.

Docket Numbers: FC07-41-000.

Applicants: Hidroelectrica del Cantabrico, S.A.

Description: Notification of Self-Certification of Foreign Utility Company Status for Hidroelectrica del Cantabrico, S.A.

Filed Date: 4/19/2007.

Accession Number: 20070418-5132.

Comment Date: 5 p.m. Eastern Time on Thursday, May 10, 2007.

Docket Numbers: FC07-42-000.

Applicants: DECA II—Distribuicion Electrica Centro.

Description: Notification of Self-Certification of Foreign Utility Company Status of DECA II—Distribution Electrica Centroamericana Dos II, S.A.

Filed Date: 4/19/2007.

Accession Number: 20070418-5134.

Comment Date: 5 p.m. Eastern Time on Thursday, May 10, 2007.

Docket Numbers: FC07-43-000.

Applicants: EDP Energias de Brasil, S.A.

Description: Notification of Self-Certification of Foreign Utility Company Status of EDP Energias do Brasil, S.A.

Filed Date: 4/19/2007.

Accession Number: 20070418-5136.

Comment Date: 5 p.m. Eastern Time on Thursday, May 10, 2007.

Docket Numbers: FC07-44-000.

Applicants: EDP Producao Bioelectrica, S.A.

Description: Notification of Self-Certification of Foreign Utility Company Status of EDP Producao Bioelectrica, S.A.

Filed Date: 4/19/2007.

Accession Number: 20070418-5138.

Comment Date: 5 p.m. Eastern Time on Thursday, May 10, 2007.

Docket Numbers: FC07-45-000.

Applicants: EDP Gestao da Producao de Energia, S.A.

Description: Notification of Self-Certification of Foreign Utility Company Status of EDP Gestao da Producao de Energia, S.A.

Filed Date: 4/19/2007.

Accession Number: 20070418-5139.

Comment Date: 5 p.m. Eastern Time on Thursday, May 10, 2007.

Docket Numbers: FC07-46-000.

Applicants: Electrica S.A.R.L.—Empresa de Electric.

Description: Notification of Self-Certification of Foreign Utility Company Status of Electrica S.A.R.L.—Empresa de Electricidade e Agua.

Filed Date: 4/19/2007.

Accession Number: 20070418-5140.

Comment Date: 5 p.m. Eastern Time on Thursday, May 10, 2007.

Docket Numbers: FC07-47-000.

Applicants: REN—Energeticas Nacionais, SGPS, S.A.

Description: Notification of Self-Certification of Foreign Utility Company Status of REN—Energeticas Nacionais, SGPS, S.A.

Filed Date: 4/19/2007.

Accession Number: 20070418-5142.

Comment Date: 5 p.m. Eastern Time on Thursday, May 10, 2007.

Docket Numbers: FC07-48-000.

Applicants: EDP Investment, Lda.

Description: Notification of Self-Certification of Foreign Utility Company Status of EDP Investment, Lda.

Filed Date: 4/19/2007.

Accession Number: 20070418-5143.

Comment Date: 5 p.m. Eastern Time on Thursday, May 10, 2007.

Take notice that the Commission received the following PURPA 210(m)(3) filings:

Docket Numbers: QM07-4-000.

Applicants: American Electric Power Service Corporation.

Description: American Electric Power Service Corp on behalf of Appalachian Power Company et al submit an application for relief on a service territory-wide basis from the mandatory purchase obligation contained in Section 292.303(a) of FERC's regulations.

Filed Date: 4/19/2007.

Accession Number: 20070423-0373.

Comment Date: 5 p.m. Eastern Time on Thursday, May 17, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E7-8238 Filed 4-30-07; 8:45 am]

BILLING CODE 6717-01-P